GENERAL SERVICES ADMINISTRATION

Notice of Intent to Prepare an Environmental Impact Statement for Construction of a New Land Port of Entry, International Falls, Koochiching County, Minnesota

AGENCY: Public Buildings Service, GSA.

ACTION: Notice of Intent.

SUMMARY: The General Services Administration (GSA) announces its intent to prepare an Environmental Impact Statement (EIS) under the National Environmental Policy Act (NEPA) of 1969 to analyze the potential impacts of the construction of a new Land Port of Entry (LPOE) facility in International Falls, Minnesota (the “Proposed Action”). At the request of U.S. Customs and Border Protection (CBP), the GSA is proposing to construct a new LPOE that meets U.S. Department of Homeland Security needs and the design requirements of the GSA. The existing LPOE, which was built in 1993, no longer meets the space and operational requirements of CBP or the Food and Drug Administration, a new tenant.

DATES: Effective Date: August 27, 2009.

ADDRESSES: Written comments or suggestions concerning the scope of the EIS should be sent to Glenn H. Wittman, Regional Environmental Quality Advisor, GSA Public Buildings Service, Design & Construction Division, 230 S. Dearborn St., DCD-5PM, Chicago, Illinois 60604.

FOR FURTHER INFORMATION CONTACT Glenn H. Wittman by phone at (312) 353-6871, or by email at glenn.wittman@gsa.gov.

SUPPLEMENTARY INFORMATION: The Proposed Action has been defined and will include: (a) identification of land requirements, including acquisition of adjoining or nearby land; (b) construction of a main administration building, vehicle and cargo inspection areas, and ancillary support buildings; and (c) consequent potential alterations to secondary roads.

Alternatives to be identified and studied will include alternative locations for the components of the LPOE including the buildings and inspection areas, the associated roadway network, and traffic. A No-Action alternative will be studied that will evaluate the consequences of not constructing the new facility. This alternative is included to provide a basis for comparison to the action alternatives described above as required by NEPA regulations [40 CFR 1502.14(d)].

The GSA invites individuals, organizations, and agencies to submit comments concerning the scope of the EIS. An informal open house followed by a formal presentation and public comment meeting will be held from 2:30—6:00 and 7:00-8:30 PM on Tuesday, September 15, 2009, at Rainy River Community College, 1501 Highway 71, International Falls, MN. The public scoping period starts with the publication of this notice in the Federal Register and continues for 45 days from the date of this notice. The GSA will consider all comments received or postmarked by that date in defining the scope of the EIS.

The GSA expects to issue a Draft EIS in 2009 at which time its availability will be announced in the Federal Register and local media. A public comment period will commence upon publication of the Notice of Availability. The GSA will consider and respond to comments received on the Draft EIS in preparing the Final EIS.

August 18, 2009
J. David Hood,
Regional Commissioner, Public Buildings Service, Great Lakes Region.

[FR Doc. E9-20702 Filed 8-26-09; 8:45 am]

BILLING CODE 6820-A9-S